DEPARTMENT OF DEFENSE

Department of the Army

Privacy Act of 1974; System of Records

AGENCY: Department of the Army, DoD.

ACTION: Notice to amend and delete systems of records.

SUMMARY: The Department of the Army is proposing to consolidate two existing Privacy Act systems of records its inventory of systems of records subject to the Privacy Act of 1974. The records systems are A0600 ARPC, Career Management Files of Dual Component Personnel and A0600-8-104g TAPC, Career Management Individual Files. As a result of the consolidation, A0600 ARPC will be deleted.

DATES: This proposed action will be effective without further notice on January 3, 2002, unless comments are received which result in a contrary determination.

ADDRESSES: Records Management Division, U.S. Army Records Management and Declassification Agency, ATTN: TAPC-PDD-RP, Stop 5603, 6000 6th Street, Ft. Belvoir, VA 22060-5603.

FOR FURTHER INFORMATION CONTACT: Ms. Janice Thornton at (703) 806-4390 or DSN 656-4390 or Ms. Christie King at (703) 806-3711 or DSN 656-3711.

SUPPLEMENTARY INFORMATION: The Department of the Army systems of records notices subject to the Privacy Act of 1974, (5 U.S.C. 552a), as amended, have been published in the Federal Register and are available from the address above.

The specific changes to the records system being amended are set forth below followed by the notice, as amended, published in its entirety. The proposed amendments are not within the purview of subsection (r) of the Privacy Act of 1974, (5 U.S.C. 552a), as amended, which requires the submission of a new or altered system report.

Dated: November 28, 2001.
L.M. Bynum,
Alternate OSD Federal Register Liaison Officer, Department of Defense.

Deletion

A0600 ARPC

System name:

Career Management Files of Dual Component Personnel (December 23, 1997, 62 FR 67055).

Reason:

Records are now being maintained under the Department of the Army system of records notice A0600-8-104g TAPC, entitled ‘Career Management Individual and Dual Component Personnel Files’.

AMENDMENT

A0600-8-104g TAPC

System name:

Career Management Individual Files (March 23, 1999, 64 FR 13972).

Changes:

* * * * *

System name:

Add to entry ‘Dual Component Personnel Files’.

System location:

Add a new address to entry ‘Dual Component Personnel files are located at the U.S. Army Reserve Personnel Command, 1 Reserve Way, St. Louis, MO 63132-5200.”

Categories of individuals covered by the system:

Add a new paragraph ‘Any reserve or warrant officer on active duty as a regular Army enlisted; any reserve officer on active duty as a regular Army warrant officer. All reserve officers, warrant officers, and enlisted members.”

Categories of records in the system:

Add to beginning of paragraph ‘Name, rank, Social Security Number, basic entry date, promotion eligibility date to the beginning of paragraph’. Add ‘academic reports; qualification records’ after efficiency reports. Add ‘mandatory removal date” after development actions. Add ‘general orders concerning” after classification data. Add ‘records and reports’ after similar documents.

* * * * *

Purpose(s):

Add to entry ‘when they will be considered for promotion; military education that needs to be completed for eligibility’ after Army career in first sentence. Add to end of entry ‘Specific only to Dual Component Members: To make determinations if officer should be removed for substandard performance of duty; to advise of eligibility for retirement as either an officer of enlisted person and to apprise individuals of changes in the reserve program affecting them.’

* * * * *

Safeguards:

Delete entry and replace with ‘Records are restricted to officially designated individuals in the performance of their assigned duties. Automated data are stored in vaults in secure buildings.’

* * * * *

Record source categories:

Add to entry ‘Army records, reports’ after individual.

* * * * *

A0600-8-104g TAPC

System name:

Career Management Individual and Dual Component Personnel Files.

System location:

U.S. Total Army Personnel Command, 200 Stovall Street, Alexandria, VA 22332-0474. Decentralized segments exist at the General Officer Management Office, Judge Advocate General's Office, the Chief of Chaplains Office, and the Medical Service Corps. Official mailing addresses may be obtained from U.S. Total Army Personnel Command.

Dual Component Personnel files are located at the U.S. Army Reserve Personnel Command, 1 Reserve Way, St. Louis, MO 63132-5200.

Categories of individuals covered by the system:

Active Army members in enlisted grades E-5 through E-9, all warrant and commission officers.

Any reserve or warrant officer on active duty as a regular Army enlisted; any reserve officer on active duty as a regular Army warrant officer. All reserve officers, warrant officers, and enlisted members.

Categories of records in the system:

Name, rank, Social Security Number, basic entry date, promotion eligibility date; orders; record briefs; statements of preference; school credit papers; transcripts; details; career personnel actions; correspondence from individual concerned; original copy of efficiency report; academic reports; qualification records; appeal actions; assignment memoranda and requests for orders; memoranda concerning professional development actions; mandatory removal date; classification data; general orders concerning service awards; service agreements; variable incentive pay data; memoranda of interviews; assignment applications; resumes of qualifications, personal background and experience supporting service member's desires, nominative action by career managers; academic reports; copies of admonition/reprimands imposed under Article 15, UCMJ, letters of appreciation/commendation/recommendation; reports/letters from accredited educational and training organizations; and similar documents, records and reports.

Authority for maintenance of the system:

10 U.S.C. 3013, Secretary of the Army; Army Regulation 600-39, Dual Component Personnel Management Program; Army Regulation 600-8-104, Military Personnel Information Management/Records; and E.O. 9397 (SSN).

Purpose(s):

To manage member's Army career, when they will be considered for promotion; military education that needs to be completed for eligibility, including assignments, counseling, and monitoring professional development.

Specific only to Dual Component members: To make determinations if officer should be removed for substandard performance of duty; to advise of eligibility for retirement as either an officer of enlisted person and to apprise individuals of changes in the reserve program affecting them.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD ‘Blanket Routine Uses’ set forth at the beginning of the Army's compilation of systems of records notices also apply to this system.

Policies and practices for storing, retrieving, accessing, retaining, and disposing of records in the system:

Storage:

Paper records in file folders and on magnetic tapes and electronic storage media.

Retrievability:

By individual's surname and/or Social Security Number.

Safeguards:

Records are restricted to officially designated individuals in the performance of their assigned duties. Automated data are stored in vaults in secure buildings.

Retention and disposal:

Career branch individual files disposition pending until National Archives and Records Administration is approved, treat as permanent.

Reserve officer career management files are forwarded with the individual's personnel file when transferred to Army Reserve, entry to active duty National Guard, Standby or Retired Reserve, however, upon final separation the records are destroyed.

System manager(s) and address:

Commander, U.S. Total Army Personnel Command, 200 Stovall Street, Alexandria, VA 22332-0474.

Commander, U.S. Army Reserve Personnel Command, 1 Reserve Way, St. Louis, MO 63132-5200 for Dual Component individuals.

Notification procedure:

Individuals seeking to determine if information about themselves is contained in this record system should address written inquiries to the following:

For information concerning general officers: General Officer Management Office, 200 Army Pentagon, ATTN: Chief of Staff, Washington, DC 20310-0200.

For information concerning chaplains: Chief of Chaplains, 200 Army Pentagon, Room 1E417, Washington, DC 20310-0200.

For information concerning officers of The Judge Advocate General Corps: The Judge Advocate General, 200 Army Pentagon, Washington, DC 20310-0200.

For information pertaining to all other soldiers: Commander, U.S. Total Army Personnel, 200 Stovall Street, Alexandria, VA 22332-0474. Individuals should designate Officer or Enlisted status.

For information concerning dual component personnel: Commander, U.S. Army Reserve Personnel Command, 1 Reserve Way, St. Louis, MO 63132-5200.

Individual should provide the full name, Social Security Number, service identification number, military occupational specialty, military status, current home address and telephone number, and signature.

Record access procedures:

Individuals seeking access to records about themselves contained in this record system should address written inquiries to the following:

For information concerning general officers: General Officer Management Office, 200 Army Pentagon, ATTN: Chief of Staff, Washington, DC 20310-0200.

For information concerning chaplains: Chief of Chaplains, 200 Army Pentagon, Room 1E417, Washington, DC 20310-0200.

For information concerning officers of The Judge Advocate General Corps: The Judge Advocate General, 200 Army Pentagon, Washington, DC 20310-0200.

For information pertaining to all other soldiers: Commander, U.S. Total Army Personnel, 200 Stovall Street, Alexandria, VA 22332-0474. Individuals should designate Officer or Enlisted status.

For information concerning dual component personnel: Commander, U.S. Army Reserve Personnel Command, 1 Reserve Way, St. Louis, MO 63132-5200

Individual should provide the full name, Social Security Number, service identification number, military occupational specialty, military status, current home address and telephone number, and signature.

Contesting record procedures:

The Army's rules for accessing records and for contesting contents and appealing initial agency determinations are contained in Army Regulation 340-21; 32 CFR part 505; or may be obtained from the system manager.

Record source categories:

From the individual; Army records; reports; enlistment, appointment, or commission related forms pertaining to the service member having a current active duty status; academic, training, and qualifications records acquired incident to military service; correspondence, forms, documents and other related papers originating in or collected by the military department for management purposes.

Exemptions claimed for the system:

None.

[FR Doc. 01-29920 Filed 12-3-01; 8:45 am]

BILLING CODE 5001-08-P